NUCLEAR REGULATORY COMMISSION

10 CFR Parts 30, 40, 50, 52, 60, 61, 63, 70, 71, and 72

[Docket No. PRM-50-107; NRC-2013-0077]

Submitting Complete and Accurate Information

AGENCY: Nuclear Regulatory Commission.

ACTION: Petition for rulemaking; supplement.

SUMMARY: The U.S. Nuclear Regulatory Commission (NRC) has received a supplement to a petition for rulemaking (PRM) previously filed with the NRC by Mr. James Lieberman (the petitioner) (PRM-50-107). The petitioner originally requested that the NRC expand its regulatory framework for nuclear power reactors to make it a legal obligation for those non-licensees who seek NRC regulatory approvals to be held to the same legal standards for the submittal of complete and accurate information as would a licensee or an applicant for a license. The petitioner requests that the scope of his petition be expanded to encompass the NRC's regulations for radioactive materials, waste disposal, transportation, and spent fuel storage licensees. The NRC requests public comments on the supplement to the petition.

DATES: Submit comments on the supplemental information by April 7, 2014. Comments received after this date will be considered if it is practical to do so, but the NRC is able to assure consideration only for comments received on or before this date.

ADDRESSES: You may submit comments by any of the following methods (unless this document describes a different method for submitting comments on a specific subject):

• Federal Rulemaking Web site: Go to http://www.regulations.gov and search for Docket ID NRC-2013-0077. Address questions about NRC dockets to Carol Gallagher; telephone: 301-287-3422; email: Carol.Gallagher@nrc.gov. For technical questions, contact the individual listed in the FOR FURTHER INFORMATION CONTACT section of this document.

• Email comments to: Rulemaking.Comments@nrc.gov. If you do not receive an automatic email reply confirming receipt, then contact us at 301-415-1677.

• Fax comments to: Secretary, U.S. Nuclear Regulatory Commission at 301-415-1101.

• Mail comments to: Secretary, U.S. Nuclear Regulatory Commission, Washington, DC 20555-0001, ATTN: Rulemakings and Adjudications Staff.

• Hand deliver comments to: 11555 Rockville Pike, Rockville, Maryland 20852, between 7:30 a.m. and 4:15 p.m. (Eastern Time) Federal workdays; telephone: 301-415-1677.

For additional direction on accessing information and submitting comments, see “Accessing Information and Submitting Comments” in the SUPPLEMENTARY INFORMATION section of this document.

FOR FURTHER INFORMATION CONTACT: Manash Bagchi, Office of Nuclear Reactor Regulation, U.S. Nuclear Regulatory Commission, Washington, DC 20555-0001; telephone: 301-415-2905, email: Manash.Bagchi@nrc.gov.

SUPPLEMENTARY INFORMATION:

I. Obtaining Information and Submitting Comments

A. Obtaining Information

Please refer to Docket ID NRC-2013-0077 when contacting the NRC about the availability of information for this petition. You may access publicly available information related to this petition by any of the following methods:

• Federal Rulemaking Web site: Go to http://www.regulations.gov and search for Docket ID NRC-2013-0077.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

B. Submitting Comments

Please include Docket ID NRC-2013-0077 in the subject line of your comment submission, in order to ensure that the NRC is able to make your comment submission available to the public in this docket.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Background

In a petition for rulemaking dated April 15, 2013 (ADMAS Accession No. ML13113A443), the petitioner requested that the NRC expand its “regulatory framework to make it a legal obligation for those non-licensees who seek NRC regulatory approvals to be held to the same legal standards for the submittal of complete and accurate information as would a licensee or an applicant for a license.” The original submittal addressed part 50 of Title 10 of the Code of Federal Regulations (10 CFR), “Domestic Licensing of Production and Utilization Facilities,” and 10 CFR part 52, “Licenses, Certifications, and Approvals for Nuclear Power Plants.” On June 10, 2013 (78 FR 34604), the NRC published a notice in the Federal Register requesting public comments on the petitioner's original submittal. The comment period closed on August 26, 2013. On September 16, 2013 (ADAMS Accession No. ML13261A190), the petitioner submitted a supplement that expanded the scope of his petition to address 10 CFR part 30, “Rules of General Applicability to Domestic Licensing of Byproduct Material;” 10 CFR part 40, “Domestic Licensing of Source Material;” 10 CFR part 60, “Disposal of High-Level Radioactive Wastes in Geological Repositories;” 10 CFR part 61, “Licensing Requirements for Land Disposal of Radioactive Waste;” 10 CFR part 63, “Disposal of High-Level Radioactive Waste in A Geologic Repository At Yucca Mountain, Nevada;” 10 CFR part 70, “Domestic Licensing of Special Nuclear Material;” 10 CFR part 71, “Packaging and Transportation of Radioactive Material;” and 10 CFR part 72, “Licensing Requirements for the Independent Storage of Spent Nuclear Fuel, High-Level Radioactive Waste, and Reactor-Related Greater Than Class C Waste.”

III. Request for Comment

The full text of the original petition and the supplement are available at www.regulations.gov by searching on Docket ID NRC-2013-0077 and in ADAMS under Accession Nos. ML13113A443 and ML13261A190, respectively. The NRC requests public comments on the supplement to the petition.

Dated at Rockville, Maryland, this 10th day of January 2014.
For the Nuclear Regulatory Commission.
Annette Vietti-Cook,
Secretary of the Commission.

[FR Doc. 2014-01035 Filed 1-17-14; 8:45 am]

BILLING CODE 7590-01-P